DEPARTMENT OF COMMERCE

International Trade Administration

[C-570-041]

Truck and Bus Tires From People's Republic of China: Final Results of the Expedited First Sunset Review of the Countervailing Duty Order

AGENCY: Enforcement and Compliance, International Trade Administration, Department of Commerce.

SUMMARY: The U.S. Department of Commerce (Commerce) finds that revocation of the countervailing duty (CVD) order on truck and bus tires from the People's Republic of China (China) would likely lead to the continuation or recurrence of countervailable subsidies at the levels indicated in the “Final Results of Expedited Sunset Review” section of this notice.

DATES: Applicable April 25, 2024.

FOR FURTHER INFORMATION CONTACT: Suresh Maniam, AD/CVD Operations, Office I, Enforcement and Compliance, International Trade Administration, U.S. Department of Commerce, 1401 Constitution Avenue NW, Washington, DC 20230; telephone: (202) 482-1603.

SUPPLEMENTARY INFORMATION:

Background

On February 15, 2019, Commerce published in the Federal Register the CVD Order on truck and bus tires from China.¹ On January 2, 2024, Commerce published in the Federal Register the notice of initiation of the first five-year sunset review of the Order pursuant to section 751(c) of the Tariff Act of 1930, as amended (the Act).² On January 12, 2024, we received a timely notice of intent to participate in this sunset review from the United Steel, Paper and Forestry, Rubber, Manufacturing, Energy, Allied Industrial Workers Union, AFL-CIO, CLC (the domestic interested party) within 15-day deadline specified in 19 CFR 351.218(d)(1)(i).³ The domestic interested claimed interested party status under section 771(9)(D) of the Act as a certified union representative of a U.S. industry engaged in the manufacture of truck and bus tires in the United States. On February 4, 2024, the domestic interested party provided a complete substantive response for this review within the 30-day deadline specified in 19 CFR 351.218(d)(3)(i).⁴ Commerce received no substantive responses from any other interested parties, including the Government of China, nor was a hearing requested. On February 22, 2024, Commerce notified the U.S. International Trade Commission that it did not receive an adequate substantive response from other interested parties.⁵ As a result, in accordance with section 751(c)(3)(B) of the Act and 19 CFR 351.218(e)(1)(ii)(C)(2), Commerce conducted an expedited, i.e., 120-day, sunset review of the Order.

¹ See Truck and Bus Tires from the People's Republic of China: Amended Final Determination and Countervailing Duty Order, 84 FR 4434 (February 15, 2019) (Order).

² See Initiation of Five-Year (Sunset) Reviews, 89 FR 66 (January 2, 2024) (Initiation Notice).

³ See Domestic Interested Party's Letter, “Notice of Intent to Participate,” dated January 12, 2024.

⁴ See Domestic Interested Party's Letter, “Substantive Response,” dated February 1, 2024.

⁵ See Commerce's Letter, “Sunset Reviews for January 2024,” dated February 22, 2024.

Scope of the Order

The products covered by the scope of the Order are truck and bus tires from China. A complete description of the scope of the Order is contained in the Issues and Decision Memorandum.⁶

⁶ See Memorandum, “Decision Memorandum for the Final Results of the Expedited First Sunset Review of the Countervailing Duty Order on Truck and Bus Tires from People Republic of China,” dated concurrently with, and hereby adopted by, this notice (Issues and Decision Memorandum).

Analysis of Comments Received

A complete discussion of all issues raised in this sunset review, including the likelihood of the continuation or recurrence of subsidization in the event of revocation of the Order and the countervailable subsidy rates likely to prevail if the Order were to be revoked, are addressed in the Issues and Decision Memorandum. A list of topics discussed in the Issues and Decision Memorandum is included in the Appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would likely lead to the continuation or recurrence of a countervailable subsidy at the following net countervailable subsidy rates:

Exporter/producer | Subsidy rate (percent ad valorem)
Guizhou Tyre Import and Export Co., Ltd.⁷ | 66.28
Double Coin Holdings Ltd.⁸ | 23.92
All Others | 45.10

Administrative Protective Order

⁷ Commerce found Guizhou Tyre Import and Export Co., Ltd. to be cross-owned with Guizhou Tyre Co., Ltd. See Truck and Bus Tires from the People's Republic of China: Preliminary Affirmative Countervailing Duty Determination, Preliminary Affirmative Critical Circumstances Determination, in Part, and Alignment of Final Determination with Final Antidumping Determination, 81 FR 43577 (July 5, 2016) (Preliminary Determination) at 17-18, and accompanying Preliminary Decision Memorandum (PDM), unchanged in Order.

⁸ Commerce found the following companies to be cross-owned with Double Coin Holdings Ltd.: Double Coin Group (Jiangsu) Tyre Co., Ltd.; Double Coin Group (Chongqing) Tyre Co., Ltd.; Double Coin Group Shanghai Donghai Tyre Co. Ltd.; and Double Coin Group (Xinjiang) Kunlun Tyre Co., Ltd. See Preliminary Determination PDM at 16-17.

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act, and 19 CFR 351.218.

Dated: April 19, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Likely to Prevail

3. Nature of the Subsidy

VII. Final Results of Expedited Sunset Review

VIII. Recommendation

[FR Doc. 2024-08841 Filed 4-24-24; 8:45 am]

BILLING CODE 3510-DS-P